DEPARTMENT OF JUSTICE

Notice of Lodging of Proposed Consent Decree Under the Safe Drinking Water Act

On Wednesday, October 23, 2013, the Department of Justice lodged a proposed Consent Decree with the United States District Court for the District of Utah (Central Division) in the lawsuit entitled United States v. Newfield Production Company, Civil Action No. 2:13-cv-00968-DN. To settle the claims against it under the Safe Drinking Water Act (“SDWA”), Newfield Production Company (“Newfield”) will pay a civil penalty of $600,000, and demonstrate adequate financial assurance through the use of a surety bond through the end of 2013, and thereafter by either the continued use of a surety bond or the use of financial statement with specified restrictions and reporting requirements. In return, the United States will grant Newfield a covenant not to sue or take administrative action pursuant to the SDWA for the civil violations alleged in the Complaint, filed simultaneously with the Consent Decree.

The case was brought under Section 1423 of the SDWA, 42 U.S.C. 300h-2, against Newfield for failure to demonstrate adequate financial responsibility for its Class II oil-related injection wells located in the Monument Butte Well Field, substantially on the Uintah & Ouray Indian Reservation in the State of Utah. Newfield failed to meet all of the five financial ratio tests required for the use of financial statement for fiscal years 2009 and 2010. This was a violation of Section 1423 of the SDWA, 42 U.S.C. 300h-2; the requirements of the Underground Injection Control (“UIC”) program found at 40 CFR 144.52(a)(7); and Section F of Newfield's UIC permits. Newfield obtained alternate financial assurance on September 27, 2010, through a Surety Bond with a Standby Trust Agreement, which remains in place at this time.

The publication of this notice opens a period for public comment on the Consent Decree. Comments should be addressed to the Assistant Attorney General, Environment and Natural Resources Division, and should refer to United States v. Newfield Production Company, D.J. Ref. No. 90-5-1-1-10453. All comments must be submitted no later than thirty (30) days after the publication date of this notice. Comments may be submitted either by email or by mail:

To submit comments: | Send them to:
By e-mail | pubcommentees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $6.50 (25 cents per page reproduction cost) payable to the United States Treasury.

Robert Brook,
Assistant Section Chief, Environmental Enforcement Section, Environment and Natural Resources Division.

[FR Doc. 2013-25868 Filed 10-30-13; 8:45 am]

BILLING CODE 4410-15-P